NUCLEAR REGULATORY COMMISSION

[Docket Nos. 50-373 and 50-374; NRC-2010-0254]

Exelon Generation Company, LLC; Lasalle County Station, Units 1 and 2; Environmental Assessment and Finding of No Significant Impact

The U.S. Nuclear Regulatory Commission (NRC) is considering issuance of an amendment for Facility Operating License Nos. NPF-11 and NPF-18, issued to Exelon Generation Company, LLC (Exelon, the licensee) for operation of the LaSalle County Station, Units 1 and 2 (LSCS), located in Marseilles, Illinois. In accordance with Title 10 to the Code of Federal Regulations (10 CFR) Section 51.21, the NRC prepared an environmental assessment documenting its finding. The NRC concluded that the proposed actions will have no significant environmental impact.

Environmental Assessment

Identification of the Proposed Action

The proposed action would revise the Facility Operating Licenses for LSCS to possess, but not separate, byproduct material, specifically Class B and Class C low-level radioactive waste (LLRW), from the following Exelon owned nuclear power stations: Braidwood Station, Units 1 and 2 (Braidwood), Byron Station, Units 1 and 2 (Byron), and Clinton Power Station, Unit 1 (Clinton). The LLRW will be stored in LSCS's interim radwaste storage facility (IRSF).

The proposed action is in accordance with the licensee's application dated January 6, 2010, as supplemented by letters dated August 20, October 14, and December 2, 2010.

The Need for the Proposed Action

The proposed action is needed to provide the licensee with adequate interim storage capacity for Class B and Class C LLRW, since it does not currently have access to a licensed disposal facility for this LLRW. This is due to the State of South Carolina's licensed LLRW disposal facility, located in Barnwell, which has limited access for radioactive waste generators located in states that are not part of the Atlantic Low-Level Waste Compact. Illinois is not a member of the Atlantic Low-Level Waste Compact. Therefore, Exelon facilities located in Illinois do not have access to the Barnwell disposal facility for their Class B and Class C LLRW. LSCS has a LLRW storage facility capable of safely storing a large amount of LLRW, on an interim basis. The other Exelon facilities in Illinois do not have the capability to store all of the LLRW they generate. The building at LSCS is designed to comply with NRC regulatory guidance, primarily Generic Letter 81-38, “Storage of Low-Level Radioactive Wastes at Power Reactor Sites” and to meet the radiation protection standards in 10 CFR Part 20, “Standards for Protection Against Radiation,” and 40 CFR Part 190, “Environmental Radiation Protection Standards for Nuclear Power Operations.”

Environmental Impacts of the Proposed Action

The proposed action involves the transportation of LLRW from Exelon's Braidwood, Byron, and Clinton nuclear power plants for interim storage at LSCS. The LLRW will be transported by truck in accordance with U.S. Department of Transportation and NRC regulations. The distance between the plant sites is less than the distance that was previously traveled to the Barnwell disposal facility in South Carolina. The licensee anticipates that there will be approximately five to eight shipments a year of LLRW to LSCS from the combination of the Braidwood, Byron, and Clinton stations. The projected number of shipments is consistent with the past annual average number of shipments to the Barnwell facility. The proposed action will reduce the total annual number of miles driven for the transport of LLRW. With less miles traveled, it is expected that there will be no change or possibly a corresponding reduction in the impacts associated with transportation such as lower radiation exposure to the truck driver and members of the public along the transportation route. The proposed action would not result in an increased risk of accidents and radiological hazards beyond those associated with the transport to the Barnwell facility. There will be no change to radioactive effluents from the power plants and the LLRW containers that affect radiation exposure to plant workers and members of the public. The interim storage building is designed to comply with NRC regulatory guidance, primarily Generic Letter 81-38, “Storage of Low-Level Radioactive Wastes at Power Reactor Sites” and to meet the radiation protection standards in 10 CFR part 20, “Standards for Protection Against Radiation,” and 40 CFR part 190, “Environmental Radiation Protection Standards for Nuclear Power Operations.” The cumulative dose from handling the LLRW from LSCS and from the additional LLRW from Braidwood, Byron, and Clinton will be controlled by station procedures to ensure compliance with the radiation dose standards to workers and members of the public. Based on this information, the staff concludes that the radiological impacts associated with the transportation, handling, and storage of LLRW at LSCS will not result in a significant impact to plant workers and members of the public.

The proposed action does not involve a change to plant buildings or land areas on the LSCS site. The proposed action does not result in changes to land use or water use, or result in changes to the quality or quantity of non-radiological effluents. With less miles traveled, it is expected that there will be no change or possibly a corresponding reduction in the impacts associated with transportation such as reduced use of fossil fuel and reduced air emissions that would affect air quality. No changes to the National Pollutant Discharge Elimination System permit are needed. No effects on the aquatic or terrestrial habitat in the vicinity of the plant, or to threatened, endangered, or protected species under the Endangered Species Act, or impacts to essential fish habitat covered by the Magnuson-Stevens Act are expected. There are no impacts to historical and cultural resources. There would be no impact to socioeconomic resources. Therefore, no changes to or different types of non-radiological environmental impacts are expected as a result of the proposed exemption.

Accordingly, the NRC staff concludes that there are no significant environmental impacts associated with the proposed action.

The NRC staff's safety evaluation will be provided in the license amendment, if approved by the NRC, which will be issued as part of the letter to the licensee approving the proposed action.

Environmental Impacts of the Alternatives to the Proposed Action

As an alternative to the proposed actions, the NRC staff considered denial of the proposed actions (i.e., the “no-action” alternative). Denial of the exemption request would result in no change in current environmental impacts. The environmental impacts of the proposed exemption and the “no action” alternative are similar.

Alternative Use of Resources

The action does not involve the use of any different resources than those considered in the NUREG-0486, “Final Environmental Statement related to the Operation of the LaSalle County Station, Units 1 and 2 dated November 1978”.

Agencies and Persons Consulted

In accordance with its stated policy, on December 15, 2010, the NRC staff consulted with the Illinois State official, Paul Smith, Nuclear System Analysis Section Chief, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 6, 2010, as supplemented by letters dated August 20, October 14, and December 2, 2010. These documents may be examined, and/or copied for a fee, at the NRC's Public Document Room (PDR), located at One White Flint North, Public File Area O-1F21, 11555 Rockville Pike (first floor), Rockville, Maryland 20852. Publicly available records will be accessible electronically from the Agencywide Documents Access and Management System (ADAMS) Public Electronic Reading Room on the Internet at the NRC Web site: http://www.nrc.gov/reading-rm/adams.html.

Persons who do not have access to ADAMS or who encounter problems in accessing the documents located in ADAMS should contact the NRC PDR Reference staff by telephone at 1-800-397-4209 or 301-415-4737, or send an e-mail to pdr.resource@nrc.gov.

Dated at Rockville, Maryland, this 10th day of February 2011.
For the Nuclear Regulatory Commission.
Eva A. Brown,
Senior Project Manager, Plant Licensing Branch III-2, Division of Operating Reactor Licensing, Office of Nuclear Reactor Regulation.

[FR Doc. 2011-3607 Filed 2-16-11; 8:45 am]

BILLING CODE 7590-01-P